DEPARTMENT OF ENERGY

Federal Energy Regulatory Commission

Sunshine Act Meeting

May 9, 2001

The following notice of meeting is published pursuant to section 3(a) of the government in the Sunshine Act (Pub. L. No. 94-409), 5 U.S.C 552B:

AGENCY HOLDING MEETING: Federal Energy Regulatory Commission.

DATE AND TIME: May 16, 2001, 10 a.m.

PLACE: Room 2C, 888 First Street, NE., Washington, DC 20426.

STATUS: Open.

MATTERS TO BE CONSIDERED: Agenda.

Note: Items listed on the agenda may be deleted without further notice.

CONTACT PERSON FOR MORE INFORMATION: David P. Boergers, Secretary, Telephone (202) 208-0400, for a recording listing items stricken from or added to the meeting, call (202) 208-1627.

This is a list of matters to be considered by the commission. It does not include a listing of all papers relevant to the items on the agenda; however, all public documents may be examined in the reference and information center.

766th—Meeting May 16, 2001 Regular Meeting, 10 a.m.

Consent Agenda—Markets, Tariffs and Rates—Electric

CAE-1.

DOCKET# ER01-1677 000 PUBLIC SERVICE COMPANY OF NEW MEXICO

CAE-2.

DOCKET# ER01-1579 000 CALIFORNIA INDEPENDENT SYSTEM OPERATOR CORPORATION

OTHER#S ER01-1579 001 CALIFORNIA INDEPENDENT SYSTEM OPERATOR CORPORATION

CAE-3.

DOCKET# ER01-1587 000 CONSUMERS ENERGY COMPANY

CAE-4.

DOCKET# ER01-1619 000 DUKE ENERGY MOHAVE, LLC

CAE-5.

DOCKET# ER01-1615 000 SOUTHERN POWER COMPANY

OTHER#S ER00-2998 001 SOUTHERN COMPANY SERVICES, INC.; ER00-2999 001 SOUTHERN COMPANY SERVICES, INC.; ER00-3000 001 SOUTHERN COMPANY SERVICES, INC.; ER00-3001 001 SOUTHERN COMPANY SERVICES, INC.

CAE-6.

DOCKET# ER01-1671 000 PJM INTERCONNECTION, L.L.C.

CAE-7.

DOCKET# ER01-1654 000 NINE MILE POINT NUCLEAR STATION, LLC

CAE-8.

OMITTED

CAE-9.

DOCKET# ER01-1681 000 CINCINNATI GAS & ELECTRIC COMPANY

CAE-10.

DOCKET# ER01-1405 000 MISSISSIPPI POWER COMPANY AND SOUTHERN COMPANY SERVICES, INC.

OTHER#S ER01-1405 001 MISSISSIPPI POWER COMPANY AND SOUTHERN COMPANY SERVICES, INC.; ER00-2998 001 SOUTHERN COMPANY SERVICES, INC.; ER00-2999 001 SOUTHERN COMPANY SERVICES, INC.; ER00-3000 001 SOUTHERN COMPANY SERVICES, INC.; ER00-3001 001 SOUTHERN COMPANY SERVICES, INC.

CAE-11.

DOCKET# ER01-1284 000 MISSISSIPPI POWER COMPANY AND SOUTHERN COMPANY SERVICES, INC.

OTHER#S ER01-1284 001 MISSISSIPPI POWER COMPANY AND SOUTHERN COMPANY SERVICES, INC.; ER00-2998 001 SOUTHERN COMPANY SERVICES, INC.; ER00-2999 001 SOUTHERN COMPANY SERVICES, INC.; ER00-3000 001 SOUTHERN COMPANY SERVICES, INC.; ER00-3001 001 SOUTHERN COMPANY SERVICES, INC.

CAE-12.

DOCKET# ER01-1801 000 TUCSON ELECTRIC POWER COMPANY

OTHER#S ER00-2998 001 SOUTHERN COMPANY SERVICES, INC.; ER00-2999 001 SOUTHERN COMPANY SERVICES, INC.; ER00-3000 001 SOUTHERN COMPANY SERVICES, INC.; ER00-3001 001 SOUTHERN COMPANY SERVICES, INC.

CAE-13.

DOCKET# ER00-2621 000 ENTERGY LOUISIANA, INC.

OTHER#S ER00-3671 000 ENTERGY SERVICES, INC.

CAE-14.

OMITTED

CAE-15.

DOCKET# ER01-1521 000 PJM INTERCONNECTION, L.L.C.

OTHER#S ER01-1521 001 PJM INTERCONNECTION, L.L.C.

CAE-16.

DOCKET# ER01-1209 000 COMMONWEALTH EDISON COMPANY

CAE-17.

DOCKET# ER01-1586 000 EDISON SAULT ELECTRIC COMPANY

CAE-18.

DOCKET# EL00-40 002 DIGHTON POWER ASSOCIATES LIMITED PARTNERSHIP, FPL ENERGY, L.L.C., SOUTHERN ENERGY NEW ENGLAND, L.L.C. AND SOUTHERN ENERGY KENDALL, L.L.C. V. ISO NEW ENGLAND, INC.

CAE-19.

OMITTED

CAE-20.

DOCKET# EL00-83 005 NSTAR SERVICES COMPANY V. NEW ENGLAND POWER POOL

OTHER#S EL00-62 023 ISO NEW ENGLAND, INC.; ER00-2052 010 ISO NEW ENGLAND, INC.; ER00-2811 005 ISO NEW ENGLAND, INC.; ER00-2937 003 ISO NEW ENGLAND, INC.

CAE-21.

DOCKET# ER01-179 002 PJM INTERCONNECTION, L.L.C.

CAE-22.

DOCKET# EL01-22 001 IDAHO POWER COMPANY

CAE-23.

DOCKET# ER99-993 001 MID-CONTINENT AREA POWER POOL

CAE-24.

DOCKET# ER99-1374 002 NEW ENGLAND POWER POOL

OTHER#S ER99-1556 002 NEW ENGLAND POWER POOL; ER99-1609 002 NEW ENGLAND POWER POOL

CAE-25.

DOCKET# ER98-3853 005 NEW ENGLAND POWER POOL

CAE-26.

DOCKET# RM87-3, 038, ANNUAL CHARGES UNDER THE OMNIBUS BUDGET RECONCILIATION ACT OF 1986 (KOCH ENERGY TRADING, INC., ET AL.)

OTHER#S RM87-3, 039, ANNUAL CHARGES UNDER THE OMNIBUS BUDGET RECONCILIATION ACT OF 1986 (KOCH ENERGY TRADING, INC, ET AL.); RM87-3, 041, ANNUAL CHARGES UNDER THE OMNIBUS BUDGET RECONCILIATION ACT OF 1986 (KOCH ENERGY TRADING, INC., ET AL.)

CAE-27.

DOCKET# ER99-3206, 002, ISO NEW ENGLAND, INC.

CAE-28.

DOCKET# EC99-53, 001, FIRST OPERATING COMPANIES (THE CLEVELAND ELECTRIC ILLUMINATING COMPANY, TOLEDO EDISON COMPANY, OHIO EDISON COMPANY AND PENNSYLVANIA POWER COMPANY) AND AMERICAN TRANSMISSION SYSTEMS, INC.

CAE-29.

DOCKET# ER00-565, 001, PACIFIC GAS AND ELECTRIC COMPANY

CAE-30.

DOCKET# ER00-1378, 001, MIDWEST GENERATION, LLC

CAE-31.

DOCKET# EL00-62, 004, ISO NEW ENGLAND, INC.

OTHER#S ER00-2052, 005, ISO NEW ENGLAND, INC.; ER00-2016, 002, NEW ENGLAND POWER POOL; EL00-59, 002, CENTRAL MAINE POWER COMPANY, NORTHEAST UTILITIES SERVICE COMPANY, UNITED ILLUMINATING COMPANY, UNITIL POWER CORPORATION, FITCHBURG GAS AND ELECTRIC LIGHT COMPANY AND VERMONT ELECTRIC POWER COMPANY V. NEW ENGLAND POWER POOL AND ISO NEW ENGLAND, INC.; ER00-2005, 002, CENTRAL MAINE POWER COMPANY, NORTHEAST UTILITIES SERVICE COMPANY, UNITED ILLUMINATING COMPANY, UNITIL POWER CORPORATION, FITCHBURG GAS AND ELECTRIC LIGHT COMPANY AND VERMONT ELECTRIC POWER COMPANY V. NEW ENGLAND POWER POOL AND ISO NEW ENGLAND, INC.

CAE-32.

OMITTED

CAE-33.

DOCKET# EC00-106, 001, ENTERGY POWER MARKETING CORPORATION AND KOCH ENERGY TRADING, INC.

CAE-34.

DOCKET# ER00-3691, 002, SITHE EDGAR LLC, SITHE NEW BOSTON LLC, SITHE FRAMINGHAM LLC, SITHE WEST MEDWAY LLC, SITHE WYMAN LLC, SITHE MYSTIC LLC, AG-ENERGY, L.P., POWER CITY PARTNERS, L.P., SENECA POWER PARTNERS, L.P., STERLING POWER PARTNERS, L.P., SITHE POWER MARKETING, L.P. AND SITHE POWER MARKETING, INC.

CAE-35.

DOCKET# RT01-74, 001, CAROLINA POWER & LIGHT COMPANY, DUKE ENERGY CORPORATION, SOUTH CAROLINA ELECTRIC & GAS COMPANY AND GRIDSOUTH TRANSCO, LLC

CAE-36.

DOCKET# EL01-53, 000, PPL LEASING COMPANY, LLC

CAE-37.

DOCKET# EL01-49, 000, COGEN LYONDELL, INC., COGEN POWER, INC., OYSTER CREEK LIMITED, DYNEGY POWER CORPORATION, AES DEEPWATER, INC., BAYTOWN ENERGY CENTER, L.P., CHANNEL ENERGY CENTER, L.P., CLEAR LAKE COGENERTION, L.P., CORPUS CHRISTI COGENERATION, PASADENA COGENERATION, L.P., TEXAS CITY COGENERATION, L.P., CALPINE CORPORATION, CONOCO, INC., THE DOW CHEMICAL COMPANY AND GREGORY POWER PARTNERS, L.P.

OTHER#S EL01-60, 000, TEXAS PUBLIC UTILITY COMMISSION OF TEXAS

CAE-38.

DOCKET# EL01-46, 000, AXIA ENERGY, LP V. SOUTHWEST POWER POOL, INC.

CAE-39.

DOCKET# EL01-52, 000, BARNET HYDRO COMPANY, COMTU FALLS, DODGE FALLS ASSOCIAATES L.P., EMERSON FALLS HYDRO, INC., HYDRO ENERGIES CORPORATION, KILLINGTON HYDROELECTRIC COMPANY, KINGSBURY HYDRO, MARTINSVILLE WATER POWER, MORETOWN ENERGY COMPANY, MISSISSIPPI ASSOCIATES, NANTANNA MILL, NEWBURY HYRO, OTTAUQUECHEE HYDRO COMPANY, INC., RYEGATE ASSOCIATES, SPRINGFIELD HYDROELECTRIC COMPANY, WINOOSKI HYDROELECTRIC COMPANY, WINOOSKI ONE PARTNERSHIP, WOODSIDE HYDRO, WORCESTER HYDRO AND VERMONT MARBLE POWER DIVISION OF OMYA, INC. V. CENTRAL VERMONT PUBLIC SERVICE CORPORATION, BARTON VILLAGE INCORPORATED ELECTRIC DEPARTMENT, VILLAGE OF ENOSBURG FALLS ELECTRIC LIGHT DEPARTMENT, VILLAGE OF HYDE PARK ELECTRIC DEPARTMENT, VILLAGE OF JACKSONVILLE ELECTRIC DEPARTMENT, VILLAGE OF JOHNSON ELECTRIC LIGHT DEPARTMENT, VILLAGE OF LUDLOW ELECTRIC LIGHT DEPARTMENT, VILLAGE OF LYNDONVILLE ELECTRIC DEPARTMENT, VILLAGE OF MORRISVILLE WATER & LIGHT DEPARTMENT, NORTHFIELD ELECTRIC DEPARTMENT, VILLAGE OF ORLEANS ELECTRIC DEPARTMENT, TOWN OF READSBORO ELECTRIC DEPARTMENT, STOWE ELECTRIC DEPARTMENT AND VILLAGE OF SWANTON ELECTRIC DEPARTMENT

CAE-40.

DOCKET# EL97-19, 000, VILLAGE OF BELMONT, CITY OF JUNEAU, CITY OF PLYMOUTH, CITY OF REEDSBURG, CITY OF SHEBOYGAN FALLS, CITY WISCONSIN RAPIDS, WISCONSIN, ADAMS-COLUMBIA ELECTRIC COOPERATIVE, CENTRAL WISCONSIN ELECTRIC COOPERATIVE AND THE ROCK COUNTY ELECTRIC COOPERATIVE V. WISCONSIN POWER & LIGHT COMPANY

OTHER#S SC97-3, 000, VILLAGE OF BELMONT, CITY OF JUNEAU, CITY OF PLYMOUTH, CITY OF REEDSBURG, CITY OF SHEBOYGAN FALLS, CITY WISCONSIN RAPIDS, WISCONSIN, ADAMS-COLUMBIA ELECTRIC COOPERATIVE, CENTRAL WISCONSIN ELECTRIC COOPERATIVE AND THE ROCK COUNTY ELECTRIC COOPERATIVE V. WISCONSIN POWER & LIGHT COMPANY

CAE-41.

DOCKET# EL99-14, 000, SOUTHWESTERN ELECTRIC COOPERATIVE, INC. V. SOYLAND POWER COOPERATIVE, INC.

OTHER#S EL99-14, 001, SOUTHWESTERN ELECTRIC COOPERATIVE, INC. V. SOYLAND POWER COOPERATIVE, INC.

CAE-42.

DOCKET# EL01-58, 000, POWEREX CORPORATION V. U.S. DEPARTMENT OF ENERGY—WESTERN AREA POWER ADMINISTRATION, ROCKY MOUNTAIN REGION/WESTERN AREA COLORADO MISSOURI

CAE-43.

DOCKET# EL01-47, 000, REMOVING OBSTACLES TO INCREASED ELECTRIC GENERATION AND NATURAL GAS SUPPLY IN THE WESTERN UNITED STATES

OTHER#S EL01-47, 001, REMOVING OBSTACLES TO INCREASED ELECTRIC GENERATION AND NATURAL GAS SUPPLY IN THE WESTERN UNITED STATES

CAE-44.

DOCKET# EL00-95, 020, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

OTHER#S EL00-98, 019, INVESTIGATION OF PRACTICES OF THE CALIFORNIA INDEPENDENT SYSTEM OPERATOR AND THE CALIFORNIA POWER EXCHANGE; EL01-47, 002, REMOVING OBSTACLES TO INCREASED ELECTRIC GENERATION AND NATURAL GAS SUPPLY IN THE WESTERN UNITED STATES; EL01-72, 000, SECTION 210(d) PROCEEDING APPLICABLE TO ELECTRIC UTILITIES IN CALIFORNIA

CAE-45.

OMITTED

CAE-46.

DOCKET# ER01-1572, 000, THE DETROIT EDISON COMPANY AND DTE ENERGY TRADING, INC.

CAE-47.

DOCKET# ER01-1385, 000, CONSOLIDATED EDISON COMPANY OF NEW YORK

OTHERS EL01-45, 000, CONSOLIDATED EDISON COMPANY OF NEW YORK

CAE-48.

DOCKET# ER01-1740, 000, NEW YORK INDEPENDENT SYSTEM OPERATOR, INC.

CAE-49.

OMITTED

Consent Agenda—Markets, Tariffs and Rates—Gas

CAG-1.

DOCKET# RP01-379, 000, TUSCARORA GAS TRANSMISSION COMPANY

CAG-2.

DOCKET# RP98-430, 000, TRANSCONTINENTAL GAS PIPE LINE CORPORATION

CAG-3.

DOCKET# RP00-632, 001, DOMINION TRANSMISSION, INC.

OTHERS RP00-632, 000, DOMINION TRANSMISSION, INC.

CAG-4.

DOCKET# RP93-151, 028, TENNESSEE GAS PIPELINE COMPANY

CAG-5.

DOCKET# RP00-162, 011, PANHANDLE EASTERN PIPE LINE COMPANY

CAG-6.

DOCKET# OR99-5, 000, COLONIAL PIPELINE COMPANY

CAG-7.

DOCKET# RP96-347, 021, NORTHERN NATURAL GAS COMPANY

OTHER#S RP01-382, 000, NORTHERN NATURAL GAS COMPANY

CAG-8.

DOCKET# RP97-406, 031, DOMINION TRANSMISSION, INC.

OTHER#S RP01-74, 006, DOMINION TRANSMISSION, INC.

CAG-9.

DOCKET# RP98-42, 015, ANR PIPELINE COMPANY

OTHER#S RP98-42, 020, ANR PIPELINE COMPANY

CAG-10.

DOCKET# RP00-543, 002, TEXAS EASTERN TRANSMISSION CORPORATION

OTHER#S RP00-543, 001, TEXAS EASTERN TRANSMISSION CORPORATION

CAG-11.

OMITTED

CAG-12.

DOCKET# MG00-7, 002, TEXAS GAS TRANSMISSION CORPORATION

CAG-13.

DOCKET# OR01-2, 000, BIG WEST OIL COMPANY V. FRONTIER PIPELINE COMPANY AND EXPRESS PIPELINE PARTNERSHIP

OTHER#S OR01-3, 000, BIG WEST OIL COMPANY V. ANSCHUTZ RANCH EAST PIPELINE, INC. AND EXPRESS PIPELINE PARTNERSHIP; OR01-4, 000, CHEVRON PRODUCTS COMPANY V. FRONTIER PIPELINE COMPANY AND EXPRESS PIPELINE PARTNERSHIP; OR01-5, 000, CHEVRON PRODUCTS COMPANY V. ANSCHUTZ RANCH EAST PIPELINE, INC. AND EXPRESS PIPELINE PARTNERSHIP

CAG-14.

DOCKET# RP01-377, 000, NORTHERN BORDER PIPELINE COMPANY

Consent Agenda—Energy Projects—Hydro

CAH-1.

DOCKET# P-2035, 008, CITY AND COUNTY OF DENVER, COLORADO

CAH-2.

DOCKET# P-11855, 001, JLH HYDRO INC.

CAH-3.

DOCKET# P-9100, 016, JAMES M. KNOTT

CAH-4. OMITTED

CAH-5. OMITTED

CAH-6. OMITTED

Consent Agenda—Energy Projects—Certificates

CAC-1.

DOCKET# CP00-138, 000, NORTHWEST NATURAL GAS COMPANY

CAC-2.

OMITTED

CAC-3.

OMITTED

CAC-4.

DOCKET# CP00-471, 000, WYOMING INTERSTATE COMPANY, LTD.

CAC-5.

DOCKET# CP01-1, 000, COLORADO INTERSTATE GAS COMPANY

CAC-6.

DOCKET# CP01-64, 000, TRAILBLAZER PIPELINE COMPANY

CAC-7.

DOCKET# CP01-70, 000, COLUMBIA GAS TRANSMISSION CORPORATION

CAC-8.

DOCKET# CP01-23, 000, NORTH BAJA PIPELINE LLC

OTHER#S CP01-22, 000, NORTH BAJA PIPELINE LLC; CP01-24, 000, NORTH BAJA PIPELINE LLC; CP01-25, 000, NORTH BAJA PIPELINE LLC

CAC-9.

DOCKET# CP01-50, 000, THE MONTANA POWER COMPANY AND THE MONTANA POWER, L.L.C.

OTHER#S CP01-51, 000, THE MONTANA POWER COMPANY AND THE MONTANA POWER, L.L.C.

CAC-10.

DOCKET# CP00-401, 001, SUPREX ENERGY CORPORATION AND ALTAGAS FACILITIES (U.S.), INC.

CAC-11.

DOCKET# CP00-233, 002, SOUTHERN NATURAL GAS COMPANY

Energy Projects—Hydro Agenda

H-1.

RESERVED

Energy Projects—Certificates Agenda

C-1.

RESERVED

Markets, Tariffs and Rates—Electric Agenda

E-1.

RESERVED

Markets, tariffa and Rates—Gas Agenda

G-1.

RESERVED

David P. Boergers,
Secretary.

[FR Doc. 01-12178 Filed 5-10-01; 11:14 am]

BILLING CODE 6717-01-P